DEPARTMENT OF COMMERCE

National Oceanic and Atmospheric Administration

50 CFR Part 635

[Docket No. 220919-0193; RTID 0648-XF427]

Atlantic Highly Migratory Species; Atlantic Bluefin Tuna Fisheries; Longline Category Quota Transfer

AGENCY: National Marine Fisheries Service (NMFS), National Oceanic and Atmospheric Administration (NOAA), Commerce.

ACTION: Temporary rule; quota transfer.

SUMMARY: NMFS is transferring 30.8 metric tons (mt) of Atlantic bluefin tuna (BFT) quota from the Reserve category to the Longline category. With this transfer, the adjusted Longline category quota for the 2026 fishing season is 240.1 mt and the adjusted Reserve category quota is 7.4 mt. The 2026 BFT Longline category is open until December 31, 2026, or until the Longline category quota is reached, whichever comes first. NMFS will distribute the transferred quota to permitted Atlantic Tunas Longline vessels with recent fishing activity. As a result of this transfer, each associated Individual Bluefin Quota (IBQ) account will receive 893 pounds (lbs) (0.4 mt) of IBQ. Note that NMFS intends to take separate action as soon as possible in 2026 to consider modifying the baseline BFT quota consistent with the quota adopted at the 2025 International Conservation of Atlantic Tunas (ICCAT) annual meeting.

DATES: The quota transfer is effective February 9, 2026, through December 31, 2026.

FOR FURTHER INFORMATION CONTACT: Larry Redd, Jr., (larry.redd@noaa.gov), Ann Williamson (ann.williamson@noaa.gov), Tobey Curtis (tobey.curtis@noaa.gov), or Brad McHale (brad.mchale@noaa.gov) by email or by phone at 301-427-8503.

SUPPLEMENTARY INFORMATION: Atlantic BFT fisheries are managed under the 2006 Consolidated HMS Fishery Management Plan (HMS FMP) and its amendments, pursuant to the Magnuson-Stevens Fishery Conservation and Management Act (Magnuson-Stevens Act; 16 U.S.C. 1801 et seq.) and consistent with the Atlantic Tunas Convention Act (ATCA; 16 U.S.C. 971 et seq.). ATCA is the implementing statute for binding recommendations of the International Commission for the Conservation of Atlantic Tunas. HMS implementing regulations are at 50 CFR part 635. Section 635.27(a) divides the U.S. BFT quota, established by the ICCAT and as implemented by the United States among the various domestic fishing categories, per the allocations established in the HMS FMP and its amendments. NMFS is required under the Magnuson-Stevens Act at 16 U.S.C. 1854(g)(1)(D) to provide U.S. fishing vessels with a reasonable opportunity to harvest quotas under relevant international fishery agreements such as the ICCAT Convention, which is implemented domestically pursuant to ATCA.

As described in § 635.27(a), the current baseline U.S. BFT quota is 1,316.14 mt (not including the 25 mt ICCAT allocated to the United States to account for bycatch of BFT in pelagic longline fisheries in the Northeast Distant Gear Restricted Area). The baseline quotas for the Longline and Reserve categories are 209.3 mt and 38.2 mt, respectively. The Longline category quota is intended to be used for incidental catch of BFT as longline vessels must use IBQ to account for their incidental BFT landings and dead discards while fishing for swordfish, bigeye tuna, and yellowfin tuna (see § 635.15).

Separate from this action, NMFS is working on a rulemaking that would implement the 2025 ICCAT recommendation (Recommendation 25-05) regarding western BFT management. Consistent with that recommendation, the separate rulemaking action would consider increasing the baseline U.S. BFT quota from 1,316.14 mt to 1,509.98 mt and adjusting any subquotas as needed accordingly. In the next few months, NMFS expects to issue a proposed rule regarding the overall quota increase and resulting subquota calculations. Any final rule implementing ICCAT Recommendation 25-05 would likely be effective in mid-2026 or later.

Transfer From the Reserve Category to the Longline Category

Under § 635.27(a)(8), NMFS has the authority to transfer quota among fishing categories or subcategories after considering determination criteria provided under § 635.27(a)(7). In this action, NMFS is transferring 30.8 mt from the Reserve category to the Longline category. This transfer results in 240.1 mt (209.3 mt + 30.8 mt = 240.1 mt) being available for the Longline category through December 31, 2026, or until the Longline category quota is reached, whichever comes first. This transfer also results in 7.4 mt (38.2 mt—30.8 mt = 7.4 mt) being available in the Reserve category through the remainder of 2026 fishing year, unless modified in another action. As required and described below, NMFS has considered all of the relevant determination criteria and their applicability to this inseason quota transfer.

Unlike transfers made to avoid a closure (§ 635.27(a)(7)(ii)), this transfer is instead a proactive measure to increase flexibility in the availability of IBQ early in the year within the current quota levels. In recent years, NMFS has received feedback from some vessel owners that pelagic longline fishery participants may be taking less fishing trips at the beginning of the year due to higher abundances of BFT on fishing grounds that could result in more BFT interactions. Under this scenario, vessels may be concerned that they will not have enough IBQ to account for BFT retained or discarded dead later in the year. The ability of pelagic longline vessel owners to account for BFT with allocated quota or to lease IBQ at an affordable price is key to the success of the IBQ Program and thus to optimize fishing opportunities. Note, as part of the IBQ Program, Atlantic Tunas Longline permit holders may lease available quota allocations to other permit holders that either received or did not receive IBQ allocation (see 635.15(g)). As such, this proactive transfer could optimize current fishing opportunities (§ 635.27(a)(7)(x)), and facilitate quota accounting (§ 635.27(a)(7)(xi) and (xii)). Specifically, this quota transfer would contribute to full accounting of BFT catch by vessels that accrue quota debt (i.e., reduce quota debt), enhance the likelihood that share recipients will lease IBQ to others in order to avoid quota debt, and reduce uncertainty in the pelagic longline fishery as a whole. Furthermore, this transfer considers variations in seasonal distribution, abundance, or migration patterns of BFT (§ 635.27(a)(7)(vii). Transferring quota early in 2026 helps to address the diversity of the fishery with respect to the timing of those fishing earlier in the year when there tends to be more BFT available on fishing grounds. As discussed in more detail in the section below, the additional quota will be distributed to vessels with recent fishing activity in the Longline category to help vessel owners account for BFT catch while fostering conditions in which permit holders become more willing to lease IBQ to other vessels through the IBQ system.

Longline vessels must use IBQ to account for their incidental BFT landings and dead discards while fishing for swordfish, bigeye tuna, and yellowfin tuna. Under § 635.15(f)(2), vessels in the pelagic longline fishery account for bycatch of BFT using IBQ on a quarterly basis. For the first fishing trip in a calendar year quarter, as defined at § 635.15(f)(2), a vessel is not allowed to fish with pelagic longline gear if it does not have the minimum IBQ allocation available (i.e., 276 lb ww (0.125 mt ww) to depart on a fishing trip in the Atlantic and 551 lb ww (0.25 mt ww) to depart on a fishing trip in the Gulf of America). Transferring 30.8 mt of quota from the Reserve category and distributing that quota to vessels with recent fishing activity in the Longline category could provide limited additional opportunities to harvest swordfish, bigeye tuna, and yellowfin tuna without exceeding the U.S. BFT quota available to account for incidental BFT catch during those operations.

Regarding the projected ability of the vessels fishing under the Longline category to harvest the additional amount of BFT quota transferred before the end of the fishing year (§ 635.27(a)(7)(iii)), NMFS considered Longline category BFT landings over the last several years and landings to date this year. Since BFT landings in the Longline category are incidental in nature, landings are highly variable and depend on access to target species (swordfish, bigeye tuna, and yellowfin tuna), fishing conditions, and the area being fished, among other factors. By transferring quota now, NMFS anticipates that the Longline category permit holders would have quota sufficient to encourage leasing between permit holders, without limiting NMFS' ability to meet other needs with the Reserve quota for the remainder of the year. Specifically, transferring more quota now may provide permit holders more certainty that they will have enough IBQ to account for BFT retained or discarded dead throughout the year, which may result in more leases of IBQ to other vessels that need IBQ to go fishing for target species earlier in the year.

NMFS also considered the estimated amounts by which quotas for other gear categories of the fishery might be exceeded (§ 635.27(a)(7)(iv)) and the ability to account for all 2026 landings and dead discards (§ 635.27(a)(7)(xi)). With the exception of 2024, the total U.S. BFT landings in recent years are typically below the available U.S. quota such that the United States has carried forward the maximum amount of underharvest allowed by ICCAT from one year to the next. When total U.S. BFT landings are above the available U.S. quota, the United States reduces the next year's quota by the overharvest amount. NMFS will need to account for 2026 landings and dead discards within the adjusted U.S. quota, consistent with ICCAT recommendations, and anticipates having sufficient quota to do that. This quota transfer, which is within current quota levels, would reduce the likelihood of vessels using all their IBQ allocation early in the year, enhance the likelihood that share recipients will lease some of their IBQ allocation to others, and reduce uncertainty in the pelagic longline fishery as a whole.

NMFS also considered the effects of the transfer on the BFT stock and on accomplishing the objectives of the HMS FMP (§ 635.27(a)(7)(v) and (vi)). This transfer would be within the established quotas and subquotas, which are implemented consistent with ICCAT recommendations, ATCA, and the objectives of the HMS FMP and amendments. In establishing these quotas and subquotas and associated management measures, ICCAT and NMFS considered the best scientific information available, objectives for stock management and status, and effects on the stock. This quota transfer is in line with the established management measures and stock status determinations.

Another consideration is the objective of providing opportunities to harvest the available Longline category quota without exceeding the annual BFT quota, based on the objectives of the HMS FMP and its amendments, including the National Standard 1 requirement to achieve optimum yield from each fishery on a continuing basis. An inseason transfer of quota to the Longline category at this time would optimize fishing opportunities for the pelagic longline fishery, allow more efficient access to target species (e.g., swordfish and yellowfin tuna), contribute to full accounting for BFT landings and dead discards, and reduce uncertainty in the pelagic longline fishery as a whole, thus facilitating the achieving of optimum yield. Quota transferred from the Reserve category and distributed directly to vessels with recent fishing activity should reduce situations where fishing opportunities for target species such as swordfish and yellowfin tuna are constrained by a vessel not having its own IBQ allocation or by a fishery participant not finding affordable quota (or sufficient quota) for lease.

Distribution of Transferred Quota Within the Longline Category

Under § 635.15(e)(2), NMFS may distribute quota that is transferred inseason to the Longline category to all IBQ shareholders or to all permitted Atlantic Tunas Longline vessels that are determined to have any recent fishing activity in the previous year. Also under § 635.15(e)(2), any distribution of quota transferred inseason will be equal among eligible IBQ shareholders or active vessels. As described below, NMFS has considered all of the relevant factors provided under § 635.15(e)(2) to determine the distribution of quota in this inseason quota transfer. After considering all of the relevant factors, NMFS has decided to distribute the 30.8 mt of quota transferred from the Reserve category to Atlantic Tunas Longline vessels with recent fishing activity as these vessels most likely need quota in order to account for BFT interactions. These participants should receive their equal distribution of 893 lbs (0.4 mt) in their IBQ account shortly.

In 2022, NMFS published a final rule for Amendment 13 to the HMS FMP (Amendment 13), which among other things, implemented an annual dynamic determination of IBQ shares based upon each individual permitted vessel's fishing effort using the number of pelagic longline sets, relative to the total amount of pelagic longline sets fishery-wide. NMFS has considered all relevant data sources consistent with § 635.15(e)(2), and has determined that 76 vessels have recent fishing activity in the pelagic longline fishery. These 76 vessels have already received a 2026 IBQ allocation.

In reviewing the previous and current BFT landings and dead discards in the longline fishery, preliminary data indicate that these 76 pelagic longline vessels continuously interact with BFT across the year. NMFS expects that these vessels and any vessels that lease IBQ will likely also interact with BFT early in 2026. These 76 vessels account for BFT catches using IBQ, as required by the regulations at § 635.15(f)(3)(i). Distributing quota to active vessels provides a focused and efficient distribution of quota to those that need it and will help reduce uncertainty and facilitate better business decisions and a more effective leasing program for the remainder of the year. Alternatively, distributing quota to permitted vessels that have not actively fished recently and do not otherwise have 2026 IBQ allocation would reduce the amount of IBQ given to each vessel and therefore may not provide the benefits expected by the transfer as stated above.

Regarding the annual amounts of IBQ allocation and the amount of BFT quota in Reserve category quota, NMFS considered that the annual amount of Longline category quota allocated in the IBQ system for 2025 and 2026 is the baseline Longline category quota of 209.3 mt (not including the 25 mt for the NED). The Reserve category quota totals 38.2 mt. Although this transfer will reduce the Reserve category quota to 7.4 mt, NMFS anticipates having sufficient quota available in the Reserve category for any future transfers, as appropriate. As described above, NMFS is currently working on a rulemaking to implement ICCAT Recommendation 25-05. This rulemaking would consider an increase to the U.S. BFT quota and subquotas, including the Reserve and Longline category quotas, as appropriate.

Monitoring and Reporting

NMFS will continue to monitor the BFT fishery closely. Per § 635.5(b)(2)(i)(A), dealers are required to submit landing reports within 24 hours of a dealer receiving BFT. Late reporting by dealers compromises NMFS' ability to timely implement actions such as quota and retention limit adjustments, as well as closures, and may result in enforcement actions. Additionally, and separate from the dealer reporting requirement, pelagic longline vessel owners are required per § 635.35(a)(4) to report their own catch of all BFT through VMS. Longline category permit holders are reminded that all BFT discarded dead must be reported through VMS, and accounted for in the online IBQ system, consistent with requirements at § 635.15(a).

Depending on the level of fishing effort and catch rates of BFT, NMFS may determine that additional adjustments are necessary to ensure available quota is not exceeded or to enhance scientific data collection from, and fishing opportunities in, all geographic areas. If needed, subsequent adjustments will be published in the Federal Register. In addition, fishermen may access https://hmspermits.noaa.gov, for updates on quota monitoring and inseason adjustments.

Classification

NMFS issues this action pursuant to section 305(d) of the Magnuson-Stevens Act (16 U.S.C. 1855(d)) and regulations at 50 CFR part 635 and this action is exempt from review under Executive Order 12866.

The Assistant Administrator for NMFS (AA) finds that pursuant to 5 U.S.C. 553(b)(B), there is good cause to waive prior notice and opportunity to provide comment on this action, as notice and comment would be impracticable and contrary to the public interest. Specifically, the regulations implementing the HMS FMP and amendments provide for inseason adjustments and quota transfers, including for the longline category, to respond to the unpredictable nature of BFT availability on the fishing grounds, the migratory nature of this species, the regional variations in the BFT fishery, and the need to optimize fishing opportunity. Providing prior notice and opportunity for public comment is impracticable and contrary to the public interest as this fishery is currently underway and a quota transfer needs to happen early in the year to facilitate effective leasing and more certainty in operational decisions. Delaying this action could result in adverse impacts for those permitted Atlantic Tunas Longline vessels that would otherwise have an opportunity to reduce or resolve quota debt, lease quota to other vessels, as well as delay potential beneficial effects like the ability for vessel operators to make plans for their participation in target fisheries for other species later this year. Additionally, a delay in implementing this transfer would preclude the fishery from harvesting target species that are currently available on fishing grounds (i.e., due to IBQ constraints). This action does not raise conservation and management concerns and would support effective management of the BFT fishery. Transferring quota from the Reserve category to the Longline category does not affect the overall ICCAT-allocated U.S. BFT quota. NMFS notes that the public had an opportunity to comment on the underlying rulemakings that established the IBQ program, U.S. BFT quota and the inseason adjustment criteria.

For all of the above reasons, the AA finds that pursuant to 5 U.S.C. 553(d)(3), there is good cause to waive the 30-day delay in effective date.

Authority: 16 U.S.C. 971 et seq. and 1801 et seq.

Dated: February 6, 2026.
David R. Blankinship,
Acting Director, Office of Sustainable Fisheries, National Marine Fisheries Service.

[FR Doc. 2026-02626 Filed 2-9-26; 8:45 am]

BILLING CODE 3510-22-P